DEPARTMENT OF ENERGY

Federal Energy Regulatory Commission

Combined Notice of Filings

Take notice that the Commission has received the following Natural Gas Pipeline Rate and Refund Report filings:

Filings Instituting Proceedings

Docket Numbers: RP13-294-000.

Applicants: Gulf South Pipeline Company, LP.

Description: Motion for Leave to Answer and Answer of the Indicated Shippers under RP13-294.

Filed Date: 12/14/12.

Accession Number: 20121214-5223.

Comments Due: 5 p.m. ET 12/26/12.

Docket Numbers: RP13-388-000.

Applicants: Questar Overthrust Pipeline Company.

Description: WIC Permanent Rel of Non-Conform and Ngt Rate to WPX and OXY to be effective 12/1/2012.

Filed Date: 12/14/12.

Accession Number: 20121214-5001.

Comments Due: 5 p.m. ET 12/26/12.

Docket Numbers: RP13-389-000.

Applicants: Equitrans, L.P.

Description: Negotiated Rate Service Agreement—Stone Energy Corp to be effective 12/17/2012.

Filed Date: 12/14/12.

Accession Number: 20121214-5016.

Comments Due: 5 p.m. ET 12/26/12.

Docket Numbers: RP13-390-000.

Applicants: Gulf South Pipeline Company, LP.

Description: Remove Expired Contracts from Tariff (12/14/12) to be effective 12/14/2012.

Filed Date: 12/14/12.

Accession Number: 20121214-5018.

Comments Due: 5 p.m. ET 12/26/12.

Docket Numbers: RP13-391-000.

Applicants: Bear Creek Storage Company, L.L.C.

Description: Annual Fuel Assessment of Bear Creek Storage Company, L.L.C. under RP13-391.

Filed Date: 12/14/12.

Accession Number: 20121214-5032.

Comments Due: 5 p.m. ET 12/26/12.

Docket Numbers: RP13-392-000.

Applicants: Natural Gas Pipeline Company of America.

Description: Nicor Gas Negotiated Rate Filing to be effective 1/1/2013.

Filed Date: 12/14/12.

Accession Number: 20121214-5116.

Comments Due: 5 p.m. ET 12/26/12.

Docket Numbers: RP13-393-000.

Applicants: Southern LNG Company, L.L.C.

Description: Boil-Off Compression to be effective 2/1/2013.

Filed Date: 12/14/12.

Accession Number: 20121214-5148.

Comments Due: 5 p.m. ET 12/26/12.

Docket Numbers: RP13-394-000.

Applicants: CenterPoint Energy Gas Transmission Comp.

Description: CEGT LLC—December 15, 2012 Negotiated Rate Filing to be effective 12/15/2012.

Filed Date: 12/14/12.

Accession Number: 20121214-5170.

Comments Due: 5 p.m. ET 12/26/12.

Docket Numbers: RP13-395-000

Applicants: Empire Pipeline, Inc.

Description: Empire Pipeline, Inc. submits tariff filing per 154.204: Transfer Points to be effective 1/16/2013.

Filed Date: 12/17/2012.

Accession Number: 20121217-5069.

Comment Date: 5:00 p.m. ET 12/31/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-2569-005.

Applicants: Texas Gas Transmission, LLC.

Description: Compliance Filing in RP11-2569 to be effective.

Filed Date: 12/14/12.

Accession Number: 20121214-5017.

Comments Due: 5 p.m. ET 12/26/12.

Docket Numbers: RP11-65-002.

Applicants: Trans-Union Interstate Pipeline, L.P.

Description: Order 587-V Compliance Filing to Modify Tariff (11.29.12) to be effective 12/1/2012.

Filed Date: 12/14/12.

Accession Number: 20121214-5143.

Comments Due: 5 p.m. ET 12/26/12.

Docket Numbers: RP12-1111-001.

Applicants: Total Peaking Services, L. L. C.

Description: Total Peaking—Compliance Filing in RP12-1111 to be effective 12/1/2012.

Filed Date: 12/14/12.

Accession Number: 20121214-5095.

Comments Due: 5 p.m. ET 12/26/12.

Docket Numbers: RP12-1121-003.

Applicants: Portland General Electric Company.

Description: Order 587-V Compliance Filing Third Corrected Sect 25 re Letter Order 11-29-12 to be effective 12/1/2012.

Filed Date: 12/14/12.

Accession Number: 20121214-5057.

Comments Due: 5 p.m. ET 12/26/12.

Docket Numbers: RP13-122-002.

Applicants: Central Kentucky Transmission Company.

Description: NAESB 2.0 Supplemental to be effective 12/1/2012.

Filed Date: 12/14/12.

Accession Number: 20121214-5056.

Comments Due: 5 p.m. ET 12/26/12.

Docket Numbers: RP13-124-002.

Applicants: Hardy Storage Company, LLC.

Description: NAESB 2.0 Compliance Filing to be effective 12/1/2012.

Filed Date: 12/14/12.

Accession Number: 20121214-5031.

Comments Due: 5 p.m. ET 12/26/12.

Docket Numbers: RP13-178-001.

Applicants: USG Pipeline Company, LLC.

Description: Order No. 587-V Further compliance filing to be effective 12/1/2012.

Filed Date: 12/14/12.

Accession Number: 20121214-5077.

Comments Due: 5 p.m. ET 12/26/12

.

Docket Numbers: RP13-179-001.

Applicants: B-R Pipeline Company.

Description: Order No. 587-V Further compliance filing to be effective 12/1/2012.

Filed Date: 12/14/12.

Accession Number: 20121214-5076.

Comments Due: 5 p.m. ET 12/26/12.

Docket Numbers: RP13-43-001.

Applicants: Bluewater Gas Storage, LLC.

Description: Bluewater DEC 14 NAESB Compliance to be effective 12/1/2012.

Filed Date: 12/14/12.

Accession Number: 20121214-5058.

Comments Due: 5 p.m. ET 12/26/12.

Docket Numbers: RP13-44-001.

Applicants: SG Resources Mississippi, L.L.C.

Description: SG Resources Dec 14 Compliance Filing to be effective 2/1/2012.

Filed Date: 12/14/12.

Accession Number: 20121214-5061.

Comments Due: 5 p.m. ET 12/26/12.

Docket Numbers: RP13-45-001.

Applicants: Pine Prairie Energy Center, LLC.

Description: PPEC Dec 14 Compliance to be effective 12/1/2012.

Filed Date: 12/14/12.

Accession Number: 20121214-5059.

Comments Due: 5 p.m. ET 12/26/12.

Docket Numbers: RP13-61-001.

Applicants: Dominion Transmission, Inc.

Description: DTI—Compliance Filing—NAESB Version 2.0 to be effective 12/1/2012.

Filed Date: 12/14/12.

Accession Number: 20121214-5045.

Comments Due: 5 p.m. ET 12/26/12.

Docket Numbers: RP13-64-001.

Applicants: Dominion South Pipeline Company, LP.

Description: DSP—Compliance Filing—NAESB Version 2.0 to be effective 12/1/2012.

Filed Date: 12/14/12.

Accession Number: 20121214-5041.

Comments Due: 5 p.m. ET 12/26/12.

Docket Numbers: RP13-75-001.

Applicants: Northern Natural Gas Company.

Description: 20121214 NAESB VersIon 2.0 Compliance to be effective 12/1/2012.

Filed Date: 12/14/12.

Accession Number: 20121214-5021.

Comments Due: 5 p.m. ET 12/26/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 17, 2012.
Nathaniel J. Davis, Sr.,
Deputy Secretary.

[FR Doc. 2012-30921 Filed 12-21-12; 8:45 am]

BILLING CODE 6717-01-P